ENVIRONMENTAL PROTECTION AGENCY

[FRL-7064-9]

Agency Information Collection Activities; Submission to OMB; Comment Request; Partial Updating of TSCA Inventory Data Base, Production and Site Reports

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Partial Updating of TSCA Inventory Data Base, Production and Site Reports (EPA ICR No. 1011.05; OMB Control No. 2070-0070). The ICR, which is abstracted below, describes the nature of the information collection and its estimated cost and burden. The Federal Register document required under 5 CFR 1320.8(d), soliciting comments on this collection of information, was published on April 3, 2001 (66 FR 17704). EPA received a number of comments on this ICR during the comment period, which are addressed in the ICR.

DATES: Additional comments may be submitted on or before October 25, 2001.

ADDRESSES: Send comments, referencing EPA ICR No. 1011.05 and OMB Control No. 2070-0070, to the following addresses: Sandy Farmer, U.S. Environmental Protection Agency, Collection Strategies Division (Mail Code: 2822), 1200 Pennsylvania Avenue, NW., Washington, DC 20460; and to: Office of Information and Regulatory Affairs, Office of Management and Budget (OMB), Attention: Desk Officer for EPA, 725 17th Street, NW., Washington, DC 20503.

FOR FURTHER INFORMATION CONTACT: Sandy Farmer at EPA by phone on (202) 260-2740, by e-mail: farmer.sandy@epamail.epa.gov, or download off the Internet at http://www.epa.gov/icr/icr.htm and refer to EPA ICR No. 1011.05 and/or OMB Control No. 2070-0070.

SUPPLEMENTARY INFORMATION: Title: Partial Updating of TSCA Inventory Data Base, Production and Site Reports (EPA ICR No. 1011.05; OMB Control No. 2070-0070). This is a request for extension of an existing approved collection that is currently scheduled to expire on September 30, 2001. Under 5 CFR 1320.10(e)(2), the Agency may continue to conduct or sponsor the collection of information while the submission is pending at OMB.

Abstract: Section 8(b) of TSCA requires EPA to compile and keep current a complete list of chemical substances manufactured or processed in the United States. EPA uses the Inventory of Chemical Substances in Commerce to comply with TSCA section 8(b). This inventory, commonly referred to as the TSCA Inventory, is a listing of chemical substances manufactured, imported and processed for commercial purposes in the United States. EPA updates this inventory of chemicals every four years by requiring manufacturers, processors and importers to provide production volume, plant site information and site-limited status information on about 8,900 of the more than 75,000 chemicals on the TSCA Inventory. This information allows EPA to identify what chemicals are or are not currently in commerce and to take appropriate regulatory action as necessary. EPA also uses the information for screening chemicals for risks to human health or the environment, for priority-setting efforts, and for exposure estimates.

Responses to the collection of information are mandatory. The TSCA Inventory Update Rule requires the submission of information on mostly organic chemicals produced or imported in volumes greater than 10,000 pounds per year (see 40 CFR part 710). Respondents may claim all or part of a notice confidential. EPA will disclose information that is covered by a claim of confidentiality only to the extent permitted by, and in accordance with, the procedures in TSCA section 14 and 40 CFR part 2.

Burden Statement: The total public reporting burden for this collection of information is estimated to average about 22 hours per response. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to, a collection of information unless it displays a currently valid OMB control number. The OMB control numbers for EPA's regulations are listed in 40 CFR part 9 and 48 CFR Chapter 15.

The ICR provides a detailed explanation of the information collection activity and the corresponding burden estimate, which is only briefly summarized here.

Respondents/Affected Entities: Manufacturers, processors or importers of chemical substances, mixtures or categories.

Frequency of Collection: Once every four years.

Estimated No. of Respondents: 3,000.

Estimated Total Burden on Respondents: 65,640 hours.

Estimated Total Annual Costs: $1,140,000.

Changes in Burden Estimates: The total burden associated with this ICR has increased from 34,500 hours in the previous ICR to 65,640 hours for this ICR. This adjustment in burden reflects a reassessment of the burden associated with complying with this regulation.

According to the procedures prescribed in 5 CFR 1320.12, EPA has submitted this ICR to OMB for review and approval. Any comments related to the renewal of this ICR should be submitted within 30 days of this notice, as described above.

Dated: September 13, 2001.
Oscar Morales,
Director, Collection Strategies Division.

[FR Doc. 01-23919 Filed 9-24-01; 8:45 am]

BILLING CODE 6560-50-P